Title 3—

The President

Proclamation 7511 of December 5, 2001

National Pearl Harbor Remembrance Day, 2001

By The President Of The United States of America

A Proclamation

On the morning of December 7, 1941, America was attacked without warning at Pearl Harbor, Hawaii, by the air and naval forces of Imperial Japan. More than 2,400 people perished and another 1,100 were wounded, triggering our entry into World War II.

Today, we honor those killed 60 years ago and those who survived to fight on other fronts in the four succeeding years of world war. We also remember the millions of brave Americans who answered our country's call to the battlefield, to the factory, and to the farm, remembering Pearl Harbor by their deeds, their devotion to duty, and their willingness to fight for freedom. The attack at Pearl Harbor fired the American spirit with a determination that freedom would not fall to tyranny; and the United States and its allies fought to victory, preserving a world in which democracy could grow. The tragedy of December 7, 1941, remains seared upon our collective national memory, a recollection that serves not just as a symbol of American military valor and American resolve, but also as a reminder of the presence of evil in the world and the need to remain ever vigilant against it.

Now, another date will forever stand alongside December 7—September 11, 2001. On that day, our people and our way of life again were brutally and suddenly attacked, though not by a complex military maneuver, but by the surreptitious wiles of evil terrorists who took cruel and heartless advantage of the freedoms guaranteed by our Nation. Their target was not chiefly our military, but innocent civilians. We fight now to defend freedom, secure civilization, and ensure the survival of our American way of life.

As we fight to defend what we believe is right, we remember the sacrifice of those who have gone before us—not only the heroes of Pearl Harbor but all the men and women of the greatest of generations who defeated tyranny. We are grateful for their service, and honor it by pledging to do our best to secure for our children, our grandchildren, and all of posterity the continuing blessings of liberty.

The Congress, by Public Law 103-308, as amended, has designated December 7, 2001, as “National Pearl Harbor Remembrance Day.”

NOW, THEREFORE, I, GEORGE W. BUSH, President of the United States of America, by virtue of the authority vested in me by the Constitution and laws of the United States, do hereby proclaim December 7, 2001, as National Pearl Harbor Remembrance Day. I call upon the people of the United States to observe this solemn occasion with appropriate ceremonies and activities. I urge all Federal agencies, interested organizations, groups, and individuals to fly the flag of the United States at half-staff this and every December 7 in honor of those who died as a result of their service at Pearl Harbor.

IN WITNESS WHEREOF, I have hereunto set my hand this fifth day of December, in the year of our Lord two thousand one, and of the Independence of the United States of America the two hundred and twenty-sixth.

B

[FR Doc. 01-30660

Filed 12-7-01; 8:51 am]

Billing code 3195-01-P